DEPARTMENT OF THE INTERIOR

National Park Service

[NPS-WASO-NAGPRA-NPS0033465; PPWOCRADN0-PCU00RP14.R50000]

Notice of Intent To Repatriate Cultural Items: Boston University, Boston, MA

AGENCY: National Park Service, Interior.

ACTION: Notice.

SUMMARY: Boston University, in consultation with the appropriate Indian Tribes or Native Hawaiian organizations, has determined that the cultural items listed in this notice meet both the definition of sacred objects and the definition of objects of cultural patrimony. Lineal descendants or representatives of any Indian Tribe or Native Hawaiian organization not identified in this notice that wish to claim these cultural items should submit a written request to Boston University. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to Boston University at the address in this notice by April 4, 2022.

FOR FURTHER INFORMATION CONTACT: Kathryn M. Mellouk, Associate Vice President for Research Compliance, Boston University, One Silber Way, 9th floor, Boston, MA 02215, telephone (617) 358-4730, email kateski@bu.edu.

SUPPLEMENTARY INFORMATION: Notice is here given in accordance with the Native American Graves Protection and Repatriation Act (NAGPRA), 25 U.S.C. 3005, of the intent to repatriate cultural items under the control of Boston University, Boston, MA, that meet both the definition of sacred objects and the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Sometime prior to November 3, 1936, two cultural items were removed from an unknown location in Montana. These items (inventory numbers 1591 and 1592) were collected or acquired by Charles Herbert Mitchell (1857-1936). In 1936, Mr. Mitchell's family donated a portion of his collection, including these items, to Boston University. The two sacred objects/objects of cultural patrimony are two pipestone vessels.

Based on information provided by the Assiniboine and Sioux Tribes of the Fort Peck Indian Reservation, Montana during consultation and in the Tribe's repatriation request, the institution has determined that the pipestone vessels are culturally affiliated with the Assiniboine and Sioux Tribes of the Fort Peck Indian Reservation, Montana, and that they meet both the definition of sacred objects and the definition of objects of cultural patrimony.

Determinations Made by Boston University

Officials of Boston University have determined that:

• Pursuant to 25 U.S.C. 3001(3)(C), the two cultural items described above are specific ceremonial objects needed by traditional Native American religious leaders for the practice of traditional Native American religions by their present-day adherents.

• Pursuant to 25 U.S.C. 3001(3)(D), the two cultural items described above have ongoing historical, traditional, or cultural importance central to the Native American group or culture itself, rather than property owned by an individual.

• Pursuant to 25 U.S.C. 3001(2), there is a relationship of shared group identity that can be reasonably traced between the sacred objects and objects of cultural patrimony and the Assiniboine and Sioux Tribes of the Fort Peck Indian Reservation, Montana.

Additional Requestors and Disposition

Lineal descendants or representatives of any Indian Tribe or Native Hawaiian organization not identified in this notice that wish to claim these cultural items should submit a written request with information in support of the claim to Kathryn M. Mellouk, Associate Vice President for Research Compliance, Boston University, One Silber Way, 9th floor, Boston, MA 02215, telephone (617) 358-4730, email kateski@bu.edu, by April 4, 2022. After that date, if no additional claimants have come forward, transfer of control of the sacred objects and objects of cultural patrimony to the Assiniboine and Sioux Tribes of the Fort Peck Indian Reservation, Montana may proceed.

Boston University is responsible for notifying the Assiniboine and Sioux Tribes of the Fort Peck Indian Reservation, Montana that this notice has been published.

Dated: February 23, 2022.
Melanie O'Brien,
Manager, National NAGPRA Program.

[FR Doc. 2022-04447 Filed 3-2-22; 8:45 am]

BILLING CODE 4312-52-P